DEPARTMENT OF HEALTH AND HUMAN SERVICES

Office of the Secretary

[Document Identifier: OS-0990-new]

60-Day Notice

AGENCY: Office of the Secretary, Office on Women's Health.

Agency Information Collection Activities: Proposed Collection; Comment Request

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New Collection.

Title of Information Collection: The Heart Truth Professional Materials Program Evaluation.

Form/OMB No.: 0990-New

Use: The Heart Truth Campaign was launched by the National Heart, Lung, and Blood Institute (NHLBI) in September 2002 to increase women's awareness of heart disease. The Heart Truth joins together leaders in women's health—along with corporate and media partners—to create a national movement aimed at delivering an urgent wake-up call to women about heart disease.

As part of The Heart Truth campaign, Office on Women's Health funded programs to develop and disseminate educational materials for health care professionals. This information collection ascertains whether health care professionals exposed to the program materials have incorporated what they learned into their professional practice.

Frequency: 1.

Affected Public: Individuals or Households.

Annual Number of Respondents: 400.

Total Annual Responses: 400.

Average Burden per Response: 0.1 hours.

Total Annual Hours: 40 hours.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be received within 60 days, and directed to the OS Paperwork Clearance Officer at the following address: Department of Health and Human Services, Office of the Secretary, Assistant Secretary for Research and Technology, Office of Resource Management, Attention: Sherrette Funn-Coleman (0990-NEW), Room 537-H, 200 Independence Avenue, SW., Washington, DC 20201.

Dated: September 12, 2006.
Alice Bettencourt,
Office of the Secretary, Paperwork Reduction Act Reports Clearance Officer.

[FR Doc. 06-7836 Filed 9-20-06; 8:45 am]

BILLING CODE 4150-33-P